DEPARTMENT OF THE INTERIOR

Bureau of Ocean Energy Management

Environmental Documents Prepared for Oil, Gas, and Mineral Operations by the Gulf of Mexico Outer Continental Shelf (OCS) Region

AGENCY: Bureau of Ocean Energy Management, Interior.

ACTION: Notice of the availability of environmental documents prepared for OCS mineral proposals by the Gulf of Mexico OCS Region.

SUMMARY: The Bureau of Ocean Energy Management (BOEM), in accordance with Federal Regulations that implement the National Environmental Policy Act (NEPA), announces the availability of NEPA-related Site-Specific Environmental Assessments (SEA) and Findings of No Significant Impact (FONSI). These EA's were prepared during the period July 1, 2011, through September 30, 2011, for the following oil-, gas-, and mineral-related activities that were proposed on the Gulf of Mexico.

FOR FURTHER INFORMATION CONTACT: Public Information Unit, Information Services Section at the number below. Bureau of Ocean Energy Management, Gulf of Mexico OCS Region, Attention: Public Information Office (MS 5034), 1201 Elmwood Park Boulevard, Room 250, New Orleans, Louisiana 70123-2394, or by calling 1-800-200-GULF.

SUPPLEMENTARY INFORMATION: The BOEM prepares SEAs and FONSIs for proposals that relate to exploration, development, production, and transport of oil, gas, and mineral resources on the Federal OCS. These SEAs examine the potential environmental effects of activities described in the proposals and present BOEM conclusions regarding the significance of those effects. Environmental Assessments are used as a basis for determining whether or not approval of the proposals constitutes a major Federal action that significantly affects the quality of the human environment in accordance with NEPA Section 102(2)(C). A FONSI is prepared in those instances where BOEM finds that approval will not result in significant effects on the quality of the human environment. The FONSI briefly presents the basis for that finding and includes a summary or copy of the SEA. This notice constitutes the public notice of availability of environmental documents required under the NEPA Regulations.

Activity/Operator | Location | Date
McMoRan Oil & Gas LLC, Structure Removal, SEA ES/SR 11-192 | Ewing Bank, Block 947, Lease OCS-G 05803, located 68 miles from the nearest Louisiana shoreline | 7/1/2011
LLOG Exploration Offshore, L.L.C., Exploration Plan, SEA N-9539 | Mississippi Canyon, Block 431, Lease OCS-G 22877, located 60 miles from the nearest Louisiana shoreline, southeast of Morgan City, Louisiana | 7/1/2011
Shell Offshore Inc., Development Operations Coordination Document, SEA S-7405 | Mississippi Canyon, Block 935, Lease OCS-G 07976, located 61 miles from the nearest Louisiana shoreline, south of Boothville, Louisiana | 7/1/2011
Cobalt International Energy, L.P., Exploration Plan, SEA R-5078 | Garden Banks, Block 958, located 160 miles from the nearest Louisiana shoreline, south of Intracoastal City, Louisiana | 7/6/2011
Statoil USA E&P Inc., Exploration Plan, SEA R-5150 | Green Canyon, Block 404, located 111 miles from the nearest Louisiana shoreline, south of Morgan City, Louisiana | 7/7/2011
Statoil Gulf of Mexico LLC, Exploration Plan, SEA N-9572 | Keathley Canyon, Block 698, Lease OCS-G 22877, located 202 miles from the nearest Louisiana shoreline, south of Morgan City, Louisiana | 7/7/2011
Newfield Exploration Company, Exploration Plan, SEA N-9536 | Mississippi Canyon, Block 524, located 76 miles from the nearest Alabama shoreline, south of Mobile, Alabama | 7/7/2011
Eni US Operating Co. Inc., Exploration Plan, SEA N-5089 | Walker Ridge, Block 719 & 675, Lease OCS-G 32704 & 32700, respectively, located 193 miles from the nearest Louisiana shoreline, southwest of Port Fourchon, Louisiana | 7/7/2011
Anadarko E&P Company LP, Exploration Plan, SEA N-9566 | Walker Ridge, Block 793, located 207 miles from the nearest Louisiana shoreline, south of Morgan City, Louisiana | 7/7/2011
Statoil Gulf of Mexico LLC, Exploration Plan, SEA R-5143 | Alaminos Canyon, Block 810, located south of Texas, in the Western Planning Area of the Gulf of Mexico | 7/8/2011
EOG Resources, Inc., Structure Removal, SEA ES/SR 11-197 | Eugene Island, Block 135, Lease OCS-G 14467, located 33 miles from the nearest Louisiana shoreline | 7/8/2011
Deep Gulf Energy LP, Development Operations Coordination Document, SEA S-7464 | Garden Banks, Block 605, Lease OCS-G 26664, located in Port Fourchon, Louisiana | 7/8/2011
Repsol E&P USA Inc., Exploration Plan, SEA N-9559 | Keathley Canyon, Blocks 642 & 686, Lease OCS-G 33335 & 33341, respectively, located 220 miles from the nearest Louisiana shoreline | 7/8/2011
Petroleum Geo Services, Geological & Geophysical Survey, SEA T11-001 | Located in the Western Planning Area of the Gulf of Mexico | 7/8/2011
Shell Offshore Inc., Exploration Plan, SEA N-9570 | Mississippi Canyon, Block 762, Lease OCS-G 07957, located 50 miles from the nearest Louisiana shoreline, south of Boothville, Louisiana | 7/8/2011
Chevron U.S.A. Inc., Structure Removal, SEA ES/SR 11-208 & 11-209 | South Marsh Island, Block 218, Lease OCS-G 00310, located 8 miles from the nearest Louisiana shoreline | 7/8/2011
Chevron U.S.A. Inc., Structure Removal, SEA ES/SR 11-212 | South Marsh Island, Block 231, Lease OCS-G 00310, located 12 miles from the nearest Louisiana shoreline | 7/8/2011
Apache Deepwater LLC, Exploration Plan, SEA N-9558 | South Timbalier, Block 318, located 66 miles from the nearest Louisiana shoreline, south of Morgan City, Louisiana | 7/8/2011
Statoil Gulf of Mexico LLC, Exploration Plan, SEA R-5194 | Walker Ridge, Block 969, south of Louisiana in the Central Planning Area of the Gulf of Mexico | 7/12/2011
Pisces Energy LLC, Structure Removal, SEA ES/SR 11-101 | Eugene Island, Block 042, Lease OCS-G 04858, located 15 miles from the nearest Louisiana shoreline | 7/13/2011
Magnum Hunter Production, Inc., Structure Removal, SEA ES/SR 11-207 | South Timbalier, Block 265, Lease OCS-G 12980, located 51 miles from the nearest Louisiana shoreline | 7/13/2011
W & T Offshore, Inc., Structure Removal, SEA ES/SR 11-215 | Main Pass, Block 108, Lease OCS-G 04832, located 44 miles from the nearest Louisiana shoreline | 7/21/2011
Merit Energy Company, LLC, Structure Removal, SEA ES/SR 11-214 | South Marsh Island, Block 253, Lease OCS-G 08690, located 19 miles from the nearest Louisiana shoreline | 7/21/2011
W & T Offshore, Inc., Structure Removal, SEA ES/SR 11-241 | Eugene Island, Block 196, Lease OCS-G 13821, located 64 miles from the nearest Louisiana shoreline | 7/22/2011
W & T Offshore, Inc., Structure Removal, SEA ES/SR 11-244 | Eugene Island, Block 204, Lease OCS-G 00804, located 66 miles from the nearest Louisiana shoreline | 7/22/2011
W & T Offshore, Inc., Structure Removal, SEA ES/SR 10-155 | High Island, Block A 371, Lease OCS-G 30035, located 120 miles from the nearest Texas shoreline | 7/22/2011
Chevron U.S.A. Inc., Structure Removal, SEA ES/SR 11-210 & 11-211 | South Marsh Island, Block 221, Lease OCS 00310, located 12 miles from the nearest Louisiana shoreline | 7/22/2011
W & T Offshore, Inc., Structure Removal, SEA ES/SR 11-247 & 11-248 | Eugene Island, Block 206, Lease OCS-G 00806, located 65 miles from the Louisiana shoreline | 7/26/2011
Chevron U.S.A. Inc., Structure Removal, SEA ES/SR 04-001 | Mississippi Canyon, Block 63, Lease OCS-G 03206, located 13 miles from the nearest Louisiana shoreline | 7/27/2011
Chevron U.S.A. Inc., Exploration Plan, SEA R-5096 | Keathley Canyon, Block 736 located 216 miles from the nearest Louisiana shoreline, southwest of Port Fourchon, Louisiana | 7/29/2011
W & T Offshore, Inc., Structure Removal, SEA ES/SR 11-249 | Eugene Island, Block 217, Lease OCS-G 00978, located 63 miles from the nearest Louisiana shoreline | 8/1/2011
Walter Oil & Gas Corporation, Structure Removal, SEA ES/SR 11-252 | High Island, Block A21, Lease RUE OCS-G 30002, located 36 miles from the nearest Texas shoreline | 8/4/2011
SPN Resources, LLC, Structure Removal, SEA ES/SR 11-196 | Ship Shoal, Block 253, Lease OCS-G 01031 located 47 miles from the nearest Louisiana shoreline | 8/4/2011
WesternGeco, Geological & Geophysical Survey, SEA L11-008 | Located in the Central Planning Area of the Gulf of Mexico | 8/9/2011
WesternGeco, Geological & Geophysical Survey, SEA L11-011 | Located in the Central Planning Area of the Gulf of Mexico | 8/9/2011
WesternGeco, Geological & Geophysical Survey, SEA L11-012 | Located in the Central Planning Area of the Gulf of Mexico | 8/9/2011
Chevron U.S.A. Inc., Structure Removal, SEA ES/SR 11-232 | Vermilion, Block 31, Lease OCS-G 02868, located 10 miles from the nearest Louisiana shoreline | 8/9/2011
Shell Offshore Inc., Development Operations Coordination Document, SEA R-5144 | Alaminos Canyon, Block 857, located 142 miles from the nearest Texas shoreline, east of Brownsville, Texas | 8/10/2011
LLOG Exploration Offshore, L.L.C., Exploration Plan, SEA N-9560 | Mississippi Canyon, Block 300, Leases OCS-G 24064, 22865 & 22868, located 56 miles from the nearest Louisiana shoreline, southeast of Morgan City, Louisiana | 8/11/2011
Petrobras America Inc., Development Operations Coordination Document, SEA S-7461 | Walker Ridge, Block 206, located 165 miles from the nearest Louisiana shoreline, south of Port Fourchon, Louisiana | 8/11/2011
Apache Deepwater LLC, Exploration Plan, SEA R-5166 | Green Canyon, Block 861, located 132 miles from the nearest Louisiana shoreline, southwest of Port Fourchon, Louisiana | 8/12/2011
Energy XXI GOM, LLC, Structure Removal, SEA ES/SR 11-260 & 11-262 | South Timbalier, Block 027, Lease OCS-G 01443, located 7 miles from the nearest Louisiana shoreline | 8/16/2011
Energy XXI GOM, LLC, Structure Removal, SEA ES/SR 11-253, 11-255, 11-256, 11-257, 11-258 & 11-264 | South Timbalier, Block 21, Lease OCS 00263, located 4 miles from the nearest Louisiana shoreline | 8/16/2011
Energy XXI GOM, LLC, Structure Removal, SEA ES/SR 11-254 & 11-263 | South Timbalier, Block 21, Lease OCS 00263, located 4 miles from the nearest Louisiana shoreline | 8/16/2011
Energy Partners, Ltd., Structure Removal, SEA ES/SR 11-231 | South Timbalier, Block 41, Lease OCS-G 24954, located 13 miles from the nearest Louisiana shoreline | 8/16/2011
Woodside Energy (USA) Inc., Exploration Plan, SEA N-9534 | Atwater Valley, Block 187, located 80 miles from the nearest Louisiana shoreline, south of Venice, Louisiana | 8/19/2011
Merit Energy Company, LLC, Structure Removal, SEA ES/SR 06-129 | East Cameron, Block 254, Lease OCS-G 02039, located 74 miles from the nearest Louisiana shoreline | 8/19/2011
Fairways Offshore Exploration, Inc., Structure Removal, SEA ES/SR 11-233 | Galveston, Block 350, Right-Of-Way Lease OCS-G 12366, located 26 miles from the nearest Texas shoreline | 8/19/2011
McMoRan Oil & Gas LLC, Structure Removal, SEA ES/SR 11-091 | High Island, Block A 499, Lease OCS-G 03118, located 100 miles from the nearest Louisiana shoreline | 8/19/2011
Walter Oil & Gas Corporation, Structure Removal, SEA ES/SR 11-266 | High Island, Block A-22, Lease OCS-G 06180, located 31 miles from the nearest Louisiana shoreline | 8/19/2011
Energy XXI GOM, LLC, Structure Removal, SEA ES/SR 11-265 | South Timbalier, Block 265, Lease OCS 00263, located 4 miles from the nearest Louisiana shoreline | 8/19/2011
Energy XXI GOM, LLC, Structure Removal, SEA ES/SR 11-259 | South Timbalier, Block 28, Lease OCS-G 01362, located 7 miles from the nearest Louisiana shoreline | 8/19/2011
Shell Offshore Inc., Exploration Plan, SEA R-5177 | Walker Ridge, Block 95, located 156 miles from the nearest Louisiana shoreline, south of Amelia, Louisiana | 8/19/2011
Eni US Operating Co. Inc., Exploration Plan, SEA R-5137 | Mississippi Canyon, Block 772, located 57 miles from the nearest Louisiana shoreline, southeast of Venice, Louisiana | 8/23/2011
Dynamic Offshore Resources, LLC, Structure Removal, SEA ES/SR 11-171 | West Cameron, Block 499, Lease OCS-G 32786, located 91 miles from the nearest Texas shoreline | 8/25/2011
Anadarko Petroleum Corporation, Exploration Plan, SEA N-9530 | Green Canyon, Block 903, Lease OCS-G 24197, located 136 miles from the nearest Louisiana shoreline, south of Morgan City, Louisiana | 8/26/2011
McMoRan Oil & Gas LLC, Structure Removal, SEA ES/SR 11-092 | Eugene Island, Block 198, Lease OCS 00436, located 48 miles from the nearest Louisiana shoreline | 8/29/2011
McMoRan Oil & Gas LLC, Structure Removal, SEA ES/SR 11-177 | High Island, Block A561, Lease OCS-G 02712, located 83 miles from the nearest Texas shoreline | 8/29/2011
Marathon Oil Company, Exploration Plan, SEA R-5075 | Mississippi Canyon, Block 993, Lease OCS-G 24134, located 73 miles from the nearest Louisiana shoreline, south of Boothville, Louisiana | 8/30/2011
Walter Oil & Gas Corporation, Structure Removal, SEA ES/SR 11-269 | South Timbalier, Block 223, Lease OCS-G 22751, located 44 miles from the nearest Louisiana shoreline | 8/30/2011
BHP Billiton Petroleum (GOM) Inc., Development Operations Coordination Document, SEA S-7463 | Atwater Valley, Blocks 574 & 617, Leases OCS-G08035 & 08037, located 116 miles from the nearest Louisiana shoreline, southwest of Port Fourchon, Louisiana | 8/31/2011
W & T Offshore, Inc., Structure Removal, SEA ES/SR 11-246 | Eugene Island, Block 205, Lease OCS-G 00805, located 67 miles from the nearest Louisiana shoreline | 8/31/2011
Woodside Energy USA Inc., Exploration Plan, SEA S-7434 | Green Canyon, Block 451, located 110 miles from the nearest Louisiana shoreline, south of Morgan City, Louisiana | 9/6/2011
Marathon Oil Company, Exploration Plan, SEA N-9581 | Walker Ridge, Block 579, located 190 miles from the nearest Louisiana shoreline, south of Morgan City, Louisiana | 9/7/2011
Tarpon Operating & Development, L.L.C., Well Conductor Removal, SEA APM EI322-007 | Eugene Island, Block 322, Lease OCS-G 02113, located 59 miles from the nearest Louisiana shoreline | 9/9/2011
Tarpon Operating & Development, L.L.C., Well Conductor Removal, SEA APM HIA273, A336 & A343 | High Island, Block A273, A336 & A343, Lease OCS-G 21359, G 25604 & G21359, located 90, 100 & 105 miles, respectively, from the nearest Texas shoreline | 9/9/2011
Rooster Petroleum, LLC, Structure Removal, SEA ES/SR 11-228 | East Cameron, Block 129, Lease OCS-G 14364, located 33 miles from the nearest Louisiana shoreline | 9/12/2011
W & T Offshore, Inc., Structure Removal, SEA ES/SR 11-251 | Eugene Island, Block 219, Lease OCS-G 00808, located 67 miles from the nearest Louisiana shoreline | 9/12/2011
W & T Offshore, Inc., Structure Removal, SEA ES/SR 11-250 | Eugene Island, Block 218, Lease OCS 00807, located 57 miles from the nearest Louisiana shoreline | 9/15/2011
Merit Energy Company, LLC, Structure Removal, SEA ES/SR 11-203A | Matagorda Island, Block A5, Lease OCS-G 22188, located 53 miles from the nearest Texas shoreline | 9/15/2011
Global Geophysical Services, Inc., Geological & Geophysical Survey, SEA L10-048 | Located in the Central Planning Area of the Gulf of Mexico | 9/16/2011
TGS-NOPEC Geophysical Company, Geological & Geophysical Survey, SEA L11-007 | Located in the Central Planning Area of the Gulf of Mexico | 9/16/2011
Merit Energy Company, LLC, Structure Removal, SEA ES/SR 11-213 | Mustang Island, Block 868, Right-Of-Way Lease OCS-G 15699, located 23 miles from the nearest Texas shoreline | 9/16/2011
LLOG Exploration Offshore, L.L.C., Exploration Plan, SEA R-5139 | Mississippi Canyon, Block 503, located 38 miles from the nearest Louisiana shoreline, southeast of Port Fourchon, Louisiana | 9/20/2011
Apache Corporation, Structure Removal, SEA ES/SR 11-271 | High Island, Block 196, Lease RUE G 22040, located 25 miles from the nearest Louisiana shoreline | 9/21/2011
Statoil USA E&P Inc., Exploration Plan, SEA R-5247 | Located south of Louisiana in the Central Planning Area of the Gulf of Mexico | 9/21/2011
Black Elk Energy Offshore Operations, LLC, Structure Removal, SEA ES/SR 10-154A | High Island, Block 140, Lease OCS 00518, located 20 miles from the nearest Texas shoreline | 9/22/2011
Century Exploration New Orleans, Inc., Structure Removal, SEA ES/SR 03-133A & 11-274 | Main Pass, Block 100, Lease OCS-G 04910, located 32 miles from the nearest Louisiana shoreline | 9/22/2011
McMoRan Oil & Gas LLC, Structure Removal, SEA ES/SR 11-272 & 11-273 | South Marsh Island, Block 49, Lease OCS-G 00787, located 45 miles from the nearest Louisiana shoreline | 9/22/2011
Shell Offshore, Inc., Geological & Geophysical Survey, SEA L11-014 | Located in the Central Planning Area of the Gulf of Mexico | 9/23/2011
Century Exploration New Orleans, Inc., Structure Removal, SEA ES/SR 11-275 & 11-276 | West Cameron, Block 368, Lease OCS-G 05315, located 60 miles from the nearest Louisiana shoreline | 9/23/2011
Energy Partners, Ltd., Structure Removal, SEA ES/SR 11-230 & 11-236 | South Pass, Block 28, Lease OCS 00353 & 00694, located 4-5 miles from the nearest Louisiana shoreline | 9/26/2011
Shell Offshore Inc., Exploration Plan, SEA S-7480 | Located in the Central Planning Area of the Gulf of Mexico | 9/27/2011
Statoil Gulf of Mexico LLC, Exploration Plan, SEA R-5272 | Keathley Canyon, Block 698, Lease OCS-G 33343, located 218 miles from the nearest Louisiana shoreline | 9/28/2011
W & T Offshore, Inc., Structure Removal, SEA ES/SR 11-245 | Eugene Island, Block 205, Lease OCS-G 00805, located 67 miles from the nearest Louisiana shoreline | 9/30/2011
Carteret County Shore Protection Office North Carolina, Geological & Geophysical Survey, SEA E11-003 | Located Beaufort Inlet, Blocks 6375 & 6376, 4 miles from the nearest North Carolina shoreline, on the Atlantic Outer Continental Shelf | 9/30/2011
Shell Offshore Inc., Exploration Plan, SEA R-5275 | Located in the Central Gulf of Mexico, 50 miles south of the nearest shoreline, south of Venice, Louisiana | 9/30/2011
Shell Offshore Inc., Exploration Plan, SEA R-5307 | Located in the Central Gulf of Mexico, 50 miles south of the nearest shoreline, south of Venice, Louisiana | 9/30/2011
Mariner Energy Resources, Inc., Structure Removal, SEA ES/SR 10-005A | South Marsh Island, Block 11, Lease OCS-G 01182, located 35 miles from the nearest Louisiana shoreline | 9/30/2011
Energy Partners, Ltd., Structure Removal, SEA ES/SR 11-293 | South Pass, Block 28, Lease OCS 00694, located 4 miles from the nearest Louisiana shoreline | 9/30/2011
Mariner Energy, Inc., Structure Removal, SEA ES/SR 11-261 | West Cameron, Block 333, Lease OCS-G 24733, located 38 miles from the nearest Louisiana shoreline | 9/30/2011

Persons interested in reviewing environmental documents for the proposals listed above or obtaining information about SEAs and FONSIs prepared by the Gulf of Mexico OCS Region are encouraged to contact BOEM at the address or telephone listed in the FOR FURTHER INFORMATION section.

Dated: November 3, 2011.
John Rodi,
Regional Director, Gulf of Mexico OCS Region.

[FR Doc. 2012-49 Filed 1-5-12; 8:45 am]

BILLING CODE 4310-MR-P